DEPARTMENT OF DEFENSE

Department of the Navy

[Docket ID: USN-2025-HQ-0203]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Naval Academy Information Program Blue and Gold Officer Application; USNA Form 1531/1; OMB Control Number 0703-0081.

Type of Request: Extension.

Number of Respondents: 250.

Responses per Respondent: 1.

Annual Responses: 250.

Average Burden per Response: 20 minutes.

Annual Burden Hours: 83.

Needs and Uses: This information collection is necessary to determine the eligibility and leadership potential of respondents applying to represent the United States Naval Academy (USNA) as volunteer Blue and Gold Officers. Prior military service, current and past military performance, and prior affiliation with the USNA has been found to be an excellent predictor of success as a Blue and Gold Officer. Without this information, the ability for the USNA to recruit qualified Blue and Gold Officers would be impacted and would negatively affect the Academy's ability to recruit qualified candidates.

Affected Public: Individuals or households.

Frequency: On occasion.

Respondent's Obligation: Voluntary.

DoD Clearance Officer: Mr. Reginald Lucas.

Dated: November 21, 2025.
Stephanie J. Bost,
Alternate OSD Federal Register Liaison Officer, Department of Defense.

[FR Doc. 2025-21157 Filed 11-25-25; 8:45 am]

BILLING CODE 6001-FR-P